DEPARTMENT OF AGRICULTURE

Rural Utilities Service

Dairyland Power Cooperative, Inc.; Notice of Intent To Hold Public Scoping Meetings and Prepare an Environmental Impact Statement

AGENCY: Rural Utilities Service, USDA.

ACTION: Notice of intent to hold public scoping meetings and prepare an environmental impact statement.

SUMMARY: The Rural Utilities Service (RUS) intends to hold public scoping meetings and prepare an environmental impact statement (EIS) in connection with possible impacts related to a project being proposed by Dairyland Power Cooperative, Inc. (DPC), of La Crosse, Wisconsin. The proposal consists of the construction and operation of a coal-fired electric generation facility, consisting of a single 400 Megawatt (MW) unit, at a site in Mitchell or Chickasaw Counties, Iowa.

DATES: RUS will conduct the public scoping meetings in an open-house format on January 28, 2004, from 3 p.m. to 7 p.m., at the Pinicon Restaurant, Highway 63 and 18 South, in New Hampton, Iowa, and on January 29, 2004, from 3 p.m. to 7 p.m., at the First Lutheran Church, 212 North Main Street, in St. Ansger, Iowa.

FOR FURTHER INFORMATION CONTACT: Nurul Islam, Environmental Protection Specialist, RUS, Engineering and Environmental Staff, 1400 Independence Avenue, SW., Stop 1571, Washington, DC 20250-1571, telephone: (202) 720-1414 or e-mail: nurul.islam@usda.gov, or Rob Palmberg, Dairyland Power Cooperative, Inc., 3200 East Avenue South, La Crosse, WI 54602-0817, telephone: (608) 788-4000, extension 483 or e-mail: rmp@dairynet.com.

SUPPLEMENTARY INFORMATION: DPC proposes to construct and operate a 400 MW coal-fired electric generation facility at one of two sites in northeast Iowa. The Otranto site is located approximately 6 miles north of St. Ansgar in Mitchell County. The New Hampton site is located approximately 4 miles east of New Hampton in Chickasaw County. Construction of the project will require interconnection with existing electric transmission lines, the upgrade of existing electric transmission lines and/or the construction of new electric transmission lines. The schedule developed by DPC would place the facility in commercial operation by the spring of 2009. Alternatives to be considered by RUS include no action, purchased power, load management, renewable energy sources, distributed generation, and alternative site locations. Comments regarding the proposed project may be submitted (orally or in writing) at the public scoping meetings or in writing within 30 days after the January 29, 2004, meeting to RUS at the address provided in this notice.

The DPC and their consultants have prepared an alternatives evaluation and a site selection study for the proposed project. The studies are available for public review at RUS or DPC, at the addresses provided in this notice. These studies are also available at the public libraries in St. Ansgar and New Hampton. Please consult local notices for locations.

From information provided in the studies mentioned above, input that may be provided by government agencies, private organizations, and the public, RUS will prepare a Draft EIS. The Draft EIS will be available for review and comment for 45 days. A Final EIS will then be prepared that considers all comments received. The Final EIS will be available for review and comment for 30 days. Following the 30-day comment period, RUS will prepare a Record of Decision (ROD). Notices announcing the availability of the Draft and Final EIS and the ROD will be published in the Federal Register and in local newspapers.

Any final action by RUS related to the proposed project will be subject to, and contingent upon, compliance with all relevant Federal, State and local environmental laws and regulations and completion of the environmental review requirements as prescribed in the RUS Environmental Policies and Procedures (7 CFR part 1794).

Dated: January 5, 2004.
Lawrence R. Wolfe,
Acting Director, Engineering and Environmental Staff.

[FR Doc. 04-604 Filed 1-12-04; 8:45 am]

BILLING CODE 3410-15-P